DEPARTMENT OF LABOR

Employment and Training Administration

[TA-W-54,404]

Plains Cotton Cooperative Association, Mission Valley Fabrics Division, New Braunfels, TX; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on April 6, 2004, applicable to workers of Plains Cotton Cooperative Association, New Braunfels, Texas. The notice was published in the Federal Register on November 28, 2003 (68 FR 66879).

At the request of the State agency, the Department reviewed the certification for workers of the subject firm. The workers are engaged in the production of denim fabric.

New findings show that there was a previous certification, TA-W-39,539, issued on January 15, 2002, for workers of Mission Valley Fabrics, New Braunfels, Texas who were engaged in employment related to the production of denim fabric. That certification expired on January 15, 2004. To avoid an overlap in worker group coverage, the certification is being amended to change the impact date from February 25, 2003, to January 16, 2004, for workers of the subject firm.

The certification was amended on February 4, 2002, to show that workers wages were reported under a separate unemployment insurance (UI) tax account for Plains Cotton Cooperative Association.

The amended notice applicable to TA-W-54,404 is hereby issued as follows:

All workers of Plains Cotton Cooperative Association, Mission Valley Fabrics Division, New Braunfels, Texas, who became totally or partially separated from employment on or after January 16, 2004, through April 6, 2006, are eligible to apply for adjustment assistance under section 223 of the Trade Act of 1974, and are also eligible to apply for alternative trade adjustment assistance under section 246 of the Trade Act of 1974.

Signed in Washington, DC this 29th day of April, 2004.
Elliott S. Kushner,
Certifying Officer, Division of Trade Adjustment Assistance.

[FR Doc. E4-1060 Filed 5-7-04; 8:45 am]

BILLING CODE 4510-13-P